DEPARTMENT OF DEFENSE

Department of the Army

[Docket ID: USA-2015-HQ-0034]

Proposed Collection; Comment Request

AGENCY: US Army in Europe (USAREUR), G1, DoD.

ACTION: Notice.

SUMMARY: In compliance with the Paperwork Reduction Act of 1995, the U.S. Army in Europe (USAREUR), G1 announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 9, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to U.S. Army in Europe (USAREUR), G1, CPD, Attn: AEPE-CD, Unit 29351, Box 99, APO AE 09014-9351, or email Armand Lepage, Chief, DoD Contractor Personnel Office (DOCPER), armand.c.lepage.civ@mail.mil.

SUPPLEMENTARY INFORMATION: Title; Associated Form; and OMB Number: DOCPER Contractor Online Processing System (DCOPS); AE Form 715-9A and AE Form 715-9C; OMB Control Number 0702-XXXX.

Needs and Uses: The information collection requirement is necessary if DoD contractors and their employees working in Germany and Italy request to be provided the same status under the NATO Status of Forces Agreement (SOFA) as DoD civilians working for the DoD in those Host Nations. The information collected is used to qualify the contractor employees for NATO SOFA status under the procedures outlined in the respective bilateral agreements between the US and the Host Nations. Allowing DoD contractors and their employees to obtain NATO SOFA status exempts them from most Host Nation taxation, and from the requirement to obtain work and residency permits while working in support of the DoD mission.

Affected Public: Business or other for profit; Individuals or households.

Annual Burden Hours: 1500.

Number of Respondents: 1500.

Responses per Respondent: 1.

Annual Responses: 1500.

Average Burden per Response: 60 minutes.

Frequency: On occasion.

Respondents are DoD contractors and their contractor employees who, if desiring NATO SOFA status, must provide certain information under the bilateral agreements with the Host Nations. For contracts, the information provided is the contract itself, including a description of the work to be done by the contractor, and the various positions, locations, and salaries associated with each position on the contract. For the contractor employee, personal information to be provided includes full name, SSN, date and place of birth, resumes, dependent information, and sufficient personal historical information intended to assure the Host Nation that the contractor employee is not considered to be “ordinarily resident”, i.e., a person who, under the bilateral agreements, would not be eligible for the tax relief provided by NATO SOFA status.

Dated: September 4, 2015.
Aaron Siegel,
Alternate OSD Federal Register Liaison Officer, Department of Defense.

[FR Doc. 2015-22833 Filed 9-9-15; 8:45 am]

BILLING CODE 5001-06-P